DEPARTMENT OF LABOR

Employment and Training Administration

[TA-W-60,802]

Collins and Aikman; Farmington, NH; Notice of Termination of Investigation

Pursuant to Section 221 of the Trade Act of 1974, as amended, an investigation was initiated on January 22, 2007 in response to a petition filed by a company official on behalf of workers at Collins and Aikman, Farmington, New Hampshire. The workers at the subject facility produce interior car parts.

The petitioner has requested that the petition be withdrawn. Consequently, the investigation has been terminated.

Signed in Washington, DC, this 12th day of March 2007.
Richard Church,
Certifying Officer, Division of Trade Adjustment Assistance.

[FR Doc. E7-4997 Filed 3-16-07; 8:45 am]

BILLING CODE 4510-FN-P